DEPARTMENT OF COMMERCE

International Trade Administration

[A-570-119; C-570-120]

Certain Large Vertical Shaft Engines Between 225CC and 999CC, and Parts Thereof From the People's Republic of China: Rescission of 2022-2023 Antidumping and 2022 Countervailing Duty Administrative Reviews

AGENCY: Enforcement and Compliance, International Trade Administration, Department of Commerce.

SUMMARY: The U.S. Department of Commerce (Commerce) is rescinding the administrative reviews of the antidumping (AD) and countervailing duty (CVD) orders on certain large vertical shaft engines between 225CC and 999CC (large vertical shaft engines), and parts thereof from the People's Republic of China (China) for the period of reviews (PORs) March 1, 2022, through February 28, 2023, and January 1, 2022, through December 31, 2022, respectively, based on the timely withdrawals of the requests for review.

DATES: Applicable November 20, 2023.

FOR FURTHER INFORMATION CONTACT: Austin Davison, AD/CVD Operations, Office VII, Enforcement and Compliance, International Trade Administration, U.S. Department of Commerce, 1401 Constitution Avenue NW, Washington, DC 20230; telephone: (202) 482-2811.

SUPPLEMENTARY INFORMATION:

Background

On March 2, 2023, Commerce published a notice of opportunity to request an administrative review of the AD and CVD orders on certain vertical shaft engines between 225CC and 999CC, and parts thereof from China.¹ On March 31, 2023, Commerce received timely-filed requests from Briggs & Stratton LLC (the petitioner) and Kohler Co. (Kohler), a domestic producer of large vertical shaft engines, for administrative review of the AD and CVD orders for 14 Chinese large vertical shaft engine producers and/or exporters, in accordance with section 751(a) of the Tariff Act of 1930, as amended (the Act), and 19 CFR 351.213(b).²

¹ See Antidumping or Countervailing Duty Order, Finding, or Suspended Investigation; Opportunity To Request Administrative Review and Join Annual Inquiry Service List, 88 FR 13091, 13093 (March 2, 2023).

² See Petitioner's Letter, “Request for Administrative Review,” dated March 31, 2023 and Kohler's Letter, “Request for Administrative Review,” dated March 31, 2023 (AD); Petitioner's Letter, “Request for Administrative Review,” dated March 31, 2023 and Kohler's Letter, “Request for Administrative Review,” dated March 31, 2023 (CVD).

On May 9, 2023, pursuant to these requests, and in accordance with section 751(a) of the Act and 19 CFR 351.221(c)(1)(i), Commerce published a notice initiating administrative reviews of the AD and CVD orders on large vertical shaft engines from China for 14 Chinese producers and/or exporters.³ On October 7, 2023, the petitioner and Kohler timely withdrew their requests for administrative reviews of all companies.⁴

³ See Initiation of Antidumping and Countervailing Duty Administrative Reviews, 88 FR 29881 (May 9, 2023).

⁴ See Petitioner's Letter, “Withdrawal of Request for Administrative Review,” dated August 7, 2023; see also Kohler's Letter, “Withdrawal of Request for Administrative Review,” dated August 7, 2023; Petitioner's Letter, “Withdrawal of Request for Administrative Review,” dated August 7, 2023; and Kohler's Letter, “Withdrawal of Request for Administrative Review,” dated August 7, 2023.

Rescission of Review

Pursuant to 19 CFR 351.213(d)(1), Commerce will rescind an administrative review, in whole or in part, if the party or parties that requested a review withdraws the request within 90 days of the publication date of the notice of initiation of the requested review. The petitioner and Kohler withdrew their requests for reviews within the 90-day deadline. Because Commerce received no other requests for review, we are rescinding the administrative reviews of the AD and CVD orders on large vertical shaft engines from China covering the PORs of March 1, 2023, through February 28, 2023, and January 1, 2022, through December 31, 2022, respectively, in accordance with 19 CFR 351.213(d)(1).

Assessment

Commerce will instruct U.S. Customs and Border Protection (CBP) to assess antidumping and countervailing duties on all appropriate entries of large vertical shaft engines from China during the periods of review noted above. Antidumping and countervailing duties shall be assessed at rates equal to the cash deposit of estimated antidumping or countervailing duties required at the time of entry, or withdrawal from warehouse, for consumption in accordance with 19 CFR 351.212(c)(1)(i). Commerce intends to issue appropriate assessment instructions to CBP 15 days after the date of publication of this notice in the Federal Register.

Notification to Importers

This notice serves as the only reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of double antidumping duties, and/or an increase in the amount of antidumping duties by the amount of the countervailing duties.

Notification Regarding Administrative Protective Orders

This notice also serves as a reminder to all parties subject to administrative protective order (APO) of their responsibility concerning the return or destruction of proprietary information disclosed under APO in accordance with 19 CFR 351.305(a)(3). Timely written notification of the return/destruction of APO materials or conversion to judicial protective order is hereby requested. Failure to comply with the regulations and terms of an APO is a violation which is subject to sanction.

Notification to Interested Parties

This notice is issued and published in accordance with sections 751(a)(1) and 777(i)(1) of the Act, and 19 CFR 351.213(d)(4).

Dated: November 14, 2023.
James Maeder,
Deputy Assistant Secretary for Antidumping and Countervailing Duty Operations.

[FR Doc. 2023-25560 Filed 11-17-23; 8:45 am]

BILLING CODE 3510-DS-P